DEPARTMENT OF COMMERCE

National Oceanic and Atmospheric Administration

[RTID 0648-XE619]

Marine Mammals; File No. 28233

AGENCY: National Marine Fisheries Service (NMFS), National Oceanic and Atmospheric Administration (NOAA), Commerce.

ACTION: Notice; extension of comment period.

SUMMARY: Notice is hereby given that the National Marine Fisheries Service is extending the public comment period associated with the notice of receipt for an application for a permit to import bottlenose dolphins (Tursiops truncatus) submitted by the Clearwater Marine Aquarium.

DATES: The comment period for the notice published on December 20, 2024, at 89 FR 104107, is extended. Written comments must be received on or before March 20, 2025.

ADDRESSES: The application and related documents are available online at https://www.fisheries.noaa.gov/action/permit-application-import-5-bottlenose-dolphins-file-no-28233-clearwater-marine-aquarium.

You may submit comments, identified by NOAA-NMFS-2024-0140, by any of the following methods:

• Electronic Submission: Submit electronic public comments via the Federal e-Rulemaking Portal www.regulations.gov. To submit comments via the e-Rulemaking Portal, enter NOAA-NMFS-2024-0140 in the keyword search. Locate the document you wish to comment on from the resulting list and click on the “Comment Now” icon on the right of that line.

• Mail: Comments on the application should be addressed to: Permits and Conservation Division, Office of Protected Resources, NMFS, 1315 East-West Highway, Room 13705, Silver Spring, MD 20910; ATTN: Jolie Harrison, Chief, Permits and Conservation Division.

Instructions: Comments must be submitted by one of the above methods. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word, Excel, or Adobe PDF file formats only.

Those individuals requesting a public hearing should submit a written request to the Chief, Permits and Conservation Division via one of the methods listed above. The request should set forth the specific reasons why a hearing on this amendment would be appropriate.

FOR FURTHER INFORMATION CONTACT: Jennifer Skidmore or Courtney Smith, Ph.D., (301) 427-8401.

SUPPLEMENTARY INFORMATION: On December 20, 2024 (89 FR 104107), the National Marine Fisheries Service (NMFS) published notice of a permit application submitted by the Clearwater Marine Aquarium, 249 Windward Passage, Clearwater, FL 33767 (Responsible Party: James Powell, Ph.D.,). The applicant is requesting to import up to five adult male bottlenose dolphins from Attica Zoological Park in Athina, Greece, to the Clearwater Marine Aquarium for public display. The requested duration of the permit is five years. In response to a request to extend the public comment period, NMFS is extending the public comment period for an additional 45 days.

Dated: January 15, 2025.
Julia M. Harrison,
Chief, Permits and Conservation Division, Office of Protected Resources, National Marine Fisheries Service.

[FR Doc. 2025-01407 Filed 1-21-25; 8:45 am]

BILLING CODE 3510-22-P